SECURITIES AND EXCHANGE COMMISSION

[Release No. 34-76468; SR-ISEGemini-2015-24]

Self-Regulatory Organizations; ISE Gemini, LLC; Notice of Withdrawal of a Proposed Rule Change Relating to a Corporate Transaction Involving Its Indirect Parent

November 18, 2015.

On October 30, 2015, ISE Gemini, LLC (the “Exchange”) filed with the Securities and Exchange Commission (“Commission”), pursuant to Section 19(b)(1) of the Securities Exchange Act of 1934 (“Act”) ¹ and Rule 19b-4 thereunder,² a proposed rule change to amend and restate certain corporate governance documents in connection with a proposal to remove Eurex Frankfurt AG as an indirect, non-U.S. upstream owner of the Exchange. The proposed rule change was published for comment in the Federal Register on November 17, 2015.³

¹ 15 U.S.C. 78s(b)(1).

² 17 CFR 240.19b-4.

³ See Securities Exchange Act Release No. 76416 (Nov. 10, 2015), 80 FR 71876.

On November 13, 2015, the Exchange withdrew the proposed rule change (SR-ISEGemini-2015-24).

⁴ 17 CFR 200.30-3(a)(57).

For the Commission, by the Division of Trading and Markets, pursuant to delegated authority.⁴
Robert W. Errett,
Deputy Secretary.

[FR Doc. 2015-29841 Filed 11-23-15; 8:45 am]

BILLING CODE 8011-01-P